DEPARTMENT OF TRANSPORTATION

Federal Highway Administration

Environmental Impact Statement: Stark, Billings, and McKenzie Counties, North Dakota

AGENCY: Federal Highway Administration (FHWA), North Dakota Department of Transportation (NDDOT), DOT.

ACTION: Notice of Intent.

SUMMARY: The FHWA is issuing this notice to advise the public of its intent to prepare an environmental impact statement, in cooperation with the NDDOT, for a proposed highway project in Stark, Billings, and McKenzie Counties, North Dakota.

FOR FURTHER INFORMATION CONTACT: Sheri G. Lares, Environment Program Manager and Planning Specialist, Federal Highway Administration, North Dakota Division Office, 4503 Coleman Street, Suite 205, Bismarck, North Dakota 58503, Telephone: (701) 221-9464. Matt Linneman, Program Manager, Environmental and Transportation Services, North Dakota Department of Transportation, 608 E. Boulevard Avenue, Bismarck, North Dakota 58505-0700, Telephone: (701) 328-2640.

SUPPLEMENTARY INFORMATION: The FHWA, in cooperation with the North Dakota Department of Transportation, will prepare an environmental impact statement (EIS) on a proposal to expand U.S. Highway 85, approximately 62 miles, from I-94 Interchange to the Watford City Bypass (McKenzie County Road 30), North Dakota, and rehabilitate or replace the historic Long X Bridge over the Little Missouri River.

Preliminary alternatives currently under consideration are the no build and the build alternatives, which are divided between roadway and bridge alternatives. The preliminary roadway alternative is to expand U.S. Highway 85 to a four lane highway with flexible design options to avoid or minimize impacts.

Preliminary bridge alternatives currently under consideration include the following: (1) Rehabilitate the Long X Bridge (2) rehabilitate the Long X Bridge and construct a new two-lane structure adjacent to the existing Long X Bridge (3) retain the Long X Bridge for an alternative use, and construct a new four-lane structure adjacent to the existing Long X Bridge (4) construct a new four-lane structure and remove the Long X Bridge. All rehabilitation or retention alternatives would consider preserving the historic integrity of the Long X Bridge.

A Coordination Plan is being prepared to define the agencies and public participation plan for the environmental review process. The plan will outline how agencies and the public will provide input during the scoping process, the development of the purpose and need, and alternatives development.

Letters describing the proposed action and soliciting comments will be sent to appropriate Federal, State, regional and local agencies, and to private organizations and citizens who previously have expressed, or are known to have, an interest in this project. Two public scoping meetings will be held in Belfield and Watford City, North Dakota. The public scoping meetings for the proposed project will be advertised in local newspapers and other media and will be hosted by the North Dakota Department of Transportation in the fall of 2015.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning, and Construction. The regulations implementing Executive Order 12372 regarding intergovernmental consultation on Federal programs and activities apply to this program.)

Issued on: September 30, 2015.
Sheri G. Lares,
Environmental Program Manager and Planning Specialist, Federal Highway Administration, North Dakota Division Office.

[FR Doc. 2015-25405 Filed 10-5-15; 8:45 am]

BILLING CODE 4910-22-P